DEPARTMENT OF HEALTH AND HUMAN SERVICES

National Institutes of Health

Notice of Opportunity for Public Comment on the Office of Dietary Supplements Draft 2016-2021 Strategic Plan

SUMMARY: The Office of Dietary Supplements (ODS) at the National Institutes of Health (NIH) has initiated a strategic planning process that will culminate in the ODS Strategic Plan for 2016-2021. To assist with this process, the ODS requests input from research communities—academic, government, and industry—and from other interested parties. The overall purpose of the strategic planning effort is to identify both new opportunities and emerging needs for incorporation in the programmatic efforts of the Office. A draft is available on the ODS Web site at ods.od.nih.gov/StrategicPlan.

DATES: In order to ensure full consideration, all responses must be submitted by 11:59 p.m., September 30, 2016.

ADDRESSES: Interested individuals and organizations should submit their responses to ODSplan@od.nih.gov.

FOR FURTHER INFORMATION CONTACT: Anne L. Thurn, Ph.D., Office of Dietary Supplements, National Institutes of Health, 6100 Executive Boulevard, Room 3B01, Bethesda, MD 20892-7517, Phone: 301-435-2920, Fax: 301-480-1845, Email: ODSplan@od.nih.gov.

SUPPLEMENTARY INFORMATION: ODS has drafted its next Strategic Plan and desires public comment on the progress of its programs and on future needs and opportunities for program activities. The draft plan and related information are available on the ODS Web site at ods.od.nih.gov/StrategicPlan.

Guidance is being requested from all interested parties on these important issues:

• Are the current strategic goals adequate?

• Is ODS meeting its stakeholders' needs?

• In the future, should some of ODS's current programs or activities be given higher (or lower) priority?

• How can ODS more effectively provide useful information to the ODS user community, including consumers, investigators, practitioners, industry, media, policy makers, government, and other interested parties?

Dated: September 9, 2016.
Lawrence Tabak,
Deputy Director, National Institutes of Health.

[FR Doc. 2016-22233 Filed 9-14-16; 8:45 am]

BILLING CODE 4140-01-P